DEPARTMENT OF LABOR

Employment and Training Administration

[TA-W-72,945]

Bluementhal Print Works, New Orleans, LA; Notice of Termination of Investigation

Pursuant to Section 223 of the Trade Act of 1974, as amended, an investigation was initiated in response to a petition filed on November 25, 2009 on behalf of workers of Bluementhal Print Works, New Orleans, Louisiana.

The petition has been deemed invalid. The petition does not contain a group of three workers who work at the same location. In order to be considered an affected worker group, a group of three workers must work at the same location. Consequently, the investigation has been terminated.

Signed at Washington, DC this 19th day of February, 2010.
Michael W. Jaffe,
Certifying Officer, Division of Trade Adjustment Assistance.

[FR Doc. 2010-6931 Filed 3-29-10; 8:45 am]

BILLING CODE 4510-FN-P